DEPARTMENT OF THE INTERIOR

National Park Service

Landmarks Committee of the National Park System Advisory Board Meeting

AGENCY: National Park Service, Interior.

ACTION: Notice of meeting.

SUMMARY: Notice is hereby given in accordance with the Federal Advisory Committee Act [5 U.S.C. Appendix (1988)], that a meeting of the Landmarks Committee of the National Park System Advisory Board will be held beginning at 12:30 p.m. on November 2, 2010, at the following location. The meeting will continue beginning at 9 a.m. on November 3, 2010 and November 4, 2010.

DATES: November 2, 2010 at 12:30 p.m. and November 3 and November 4, 2010 at 9 a.m.

Location: The 2nd Floor Board Room of the National Trust for Historic Preservation, 1785 Massachusetts Avenue, NW., Washington, DC 20036.

FOR FURTHER INFORMATION CONTACT: Patricia Henry, National Historic Landmarks Program, National Park Service; 1849 C Street, NW., (2280); Washington, DC 20240; Telephone (202) 354-2216; E-mail Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at its subsequent meeting at a place and time to be determined. The Committee also makes recommendations to the National Park System Advisory Board regarding amendments to existing designations and proposals for withdrawal of designation. The members of the Landmarks Committee are:

Mr. Ronald James, Chair; Dr. James M. Allan; Dr. Cary Carson; Dr. Darlene Clark Hine; Mr. Luis Hoyos, AIA; Dr. Barbara J. Mills; Dr. William J. Murtagh; Dr. Franklin Odo; Dr. William D. Seale; Dr. Michael E. Stevens.

The meeting will be open to the public. Pursuant to 36 CFR part 65, any member of the public may file, for consideration by the National Park System Advisory Board, written comments concerning the National Historic Landmarks nominations, amendments to existing designations, or proposals for withdrawal of designation.

Comments should be submitted to J. Paul Loether, Chief, National Register of Historic Places and National Historic Landmarks Program, National Park Service; 1849 C Street, NW., (2280); Washington, DC 20240; E-mail Paul_Loether@nps.gov.

Before including your address, phone number, e-mail address, or other personal identifying information in your comment, you should be aware that your entire comment-including your personal identifying information-may be made publicly available at any time. While you can ask us in your comment to withhold your personal identifying information from public review, we cannot guarantee that we will be able to do so.

The National Park System Advisory Board and its Landmarks Committee may consider the following nominations:

Nominations

Delaware

• LIGHTSHIP OVERFALLS, Lewes, DE

District of Columbia

• CONGRESSIONAL CEMETERY, Washington, DC

Kansas

• WESTERN BRANCH, NATIONAL HOME FOR DISABLED VOLUNTEER SOLDIERS, Leavenworth, KS

Maine

• OLSON HOUSE, Cushing, ME

Minnesota

• GRAND MOUND, Koochiching County, MN

• SPLIT ROCK LIGHT STATION, Lake County, MN

New York

• WOODLAWN CEMETERY, Bronx, NY

North Dakota

• LYNCH QUARRY, Dunn County, ND

Ohio

• PENNSYLVANIA RAILROAD DEPOT AND BAGGAGE ROOM, Dennison, OH

• WRIGHT FIELD, Dayton, OH

Oklahoma

• CHILOCCO INDIAN AGRICULTURAL SCHOOL, Kay County, OK

• PLATT NATIONAL PARK, Murray County, OK

Oregon

• AUBREY WATZEK HOUSE, Portland, OR

Pennsylvania

• ARCH STREET FRIENDS MEETING HOUSE, Philadelphia, PA

• KUERNER FARM, Delaware County, PA

• SCHAEFFER HOUSE, Schaefferstown, PA

South Dakota

• BATTLE MOUNTAIN SANITARIUM, NATIONAL HOME FOR DISABLED VOLUNTEER SOLDIERS, Hot Springs, SD

Tennessee

• MOUNTAIN BRANCH, NATIONAL HOME FOR DISABLED VOLUNTEER SOLDIERS, Johnson City, TN

Utah

• MOUNTAIN MEADOWS MASSACRE SITE, Washington County, UT

Wisconsin

• NORTHWESTERN BRANCH, NATIONAL HOME FOR DISABLED VOLUNTEER SOLDIERS, Milwaukee, WI

Proposals for Withdrawal of Designation

• PRESIDENT (RIVERBOAT), St. Elmo, IL

Proposed Amendments to Existing Designations

• USS CONSTELLATION, Baltimore, MD (updated documentation)

• JOHN B. GOUGH HOUSE, Boylston, MA (additional documentation)

• HARRY S TRUMAN HISTORIC DISTRICT, Independence, MO (additional documentation and boundary change)

• MEDICINE WHEEL/MEDICINE MOUNTAIN, Bighorn County, WY (updated documentation, boundary, and name change)

Dated: August 3, 2010.
Alexandra Lord,
Acting Chief, National Historic Landmarks Program; National Park Service, Washington, DC.

[FR Doc. 2010-19967 Filed 8-12-10; 8:45 am]

BILLING CODE P